NATIONAL SCIENCE FOUNDATION

Large Scale Networking (LSN); Joint Engineering Team (JET)

AGENCY: The Networking and Information Technology Research and Development (NITRD) National Coordination Office (NCO). Reference the NITRD Web site at: http://www.nitrd.gov/.

ACTION: Notice of meetings.

FOR FURTHER INFORMATION CONTACT: Dr. Grant Miller at miller@nitrd.gov or (703) 292-4873.

Date/Location: The JET meetings are held on the third Tuesday of each month, 11:00am-2:00pm, at the National Science Foundation, 4201 Wilson Boulevard, Arlington, VA 22230. Please note that public seating for these meetings is limited and is available on a first-come, first served basis. WebEx participation is available for each meeting. Please reference the JET Web site for updates.

Jet Web site: The agendas, minutes, and other meeting materials and information can be found on the JET Web site at: https://connect.nitrd.gov/nitrdgroups/index.php?title=Joint_Engineering_Team_(JET).

SUMMARY: The JET, established in 1997, provides for information sharing among Federal agencies and non-Federal participants with interest in high performance research networking and networking to support science applications. The JET reports to the Large Scale Networking (LSN) Coordinating Group (CG).

Public Comments: The government seeks individual input; attendees/participants may provide individual advice only. Members of the public are welcome to submit their comments to jet-comments@nitrd.gov. Please note that under the provisions of the Federal Advisory Committee Act (FACA), all public comments and/or presentations will be treated as public documents and will be made available to the public via the JET Web site.

Submitted by the National Science Foundation in support of the Networking and Information Technology Research and Development (NITRD) National Coordination Office (NCO) on September 17, 2012.

Suzanne H. Plimpton,
Reports Clearance Officer, National Science Foundation.

[FR Doc. 2012-23189 Filed 9-19-12; 8:45 am]

BILLING CODE 7555-01-P